NATIONAL CREDIT UNION ADMINISTRATION

Agency Information Collection Activities: Submission to OMB for Reinstatement, With Change, of a Previously Approved Collection; Comment Request

AGENCY: National Credit Union Administration (NCUA).

ACTION: Request for comment.

SUMMARY: The NCUA intends to submit the following information collection to the Office of Management and Budget (OMB) for review and clearance under the Paperwork Reduction Act of 1995 (Pub. L. 104-13, 44 U.S.C. chapter 35). This information collection is published to obtain comments from the public.

DATES: Comments will be accepted until October 31, 2011.

ADDRESSES: Interested parties are invited to submit written comments to NCUA Clearance Officer:

Clearance Officer: Tracy Crews, National Credit Union Administration, 1775 Duke Street, Alexandria, Virginia 22314-3428. Fax No. 703-837-2861.

E-mail: OCIOmail@ncua.gov.

FOR FURTHER INFORMATION CONTACT: Requests for additional information or a copy of the information collection request should be directed to Tracy Crews at the National Credit Union Administration, 1775 Duke Street, Alexandria, VA 22314-3428, or at (703) 518-6444.

SUPPLEMENTARY INFORMATION: Proposal for the following collection of information:

OMB Number: 3133-0138.

Type of Review: Reinstatement, with change, of a previously approved collection.

Title: Community Development Revolving Loan Fund—Loan Program.

Description: NCUA requests this information from participants in the Community Development Revolving Loan Fund (CDRLF) Loan Program. The information will allow NCUA to assess a credit union's capacity to repay the funds and ensure that the funds were used as intended to benefit the institution and community it serves.

Estimated No. of Respondents/Recordkeepers: 75.

Estimated Burden Hours per Response: 4, 8, 16 or 40 hours per response, dependent on application type.

Frequency of Response: Reporting, on occasion and semi-annually.

Estimated Total Annual Burden Hours: 1,100 hours.

Estimated Total Annual Cost: $38,500.

By the National Credit Union Administration Board on August 26, 2011.
Mary Rupp,
Secretary of the Board.

[FR Doc. 2011-22337 Filed 8-31-11; 8:45 am]

BILLING CODE 7535-01-P